DEPARTMENT OF HEALTH AND HUMAN SERVICES

Centers for Disease Control and Prevention

Notice of Award of a Single-Source Cooperative Agreement To Fund Burkina Faso Ministry of Health; Cancellation

AGENCY: Centers for Disease Control and Prevention (CDC), Department of Health and Human Services (HHS).

ACTION: Notice.

SUMMARY: The Centers for Disease Control and Prevention (CDC), located within the Department of Health and Human Services (HHS), announces the cancellation of an award of approximately $450,000 for Year 1 of funding to the Burkina Faso Ministry of Health.

DATES: The notice of award was cancelled on March 10, 2022.

FOR FURTHER INFORMATION CONTACT: Trong Ao, Center for Global Health, Centers for Disease Control and Prevention, CDC Ghana Office, US Embassy, 24 Fourth Circular Road Cantonments, Accra Ghana, Telephone: 800-232-6348, E-Mail: tfa8@cdc.gov.

SUPPLEMENTARY INFORMATION: On March 8, 2022 CDC announced a single-source award will support the Burkina Faso Ministry of Health to implement HIV strategic information and laboratory strengthening activities in Burkina Faso (87 FR 12966). This award is cancelled in its entirety.

Terrance Perry,
Chief Grants Management Officer, Centers for Disease Control and Prevention.

[FR Doc. 2022-05565 Filed 3-11-22; 4:15 pm]

BILLING CODE 4163-18-P